DEPARTMENT OF HOUSING AND URBAN DEVELOPMENT

[Docket No. FR-5168-D-07]

Revocation and Redelegation of Fair Housing Act Complaint Processing Authority

AGENCY: Office of the Assistant Secretary for Fair Housing and Equal Opportunity, HUD.

ACTION: Notice of revocation and redelegation of authority.

SUMMARY: The Assistant Secretary for Fair Housing and Equal Opportunity (FHEO) revokes all prior redelegations of authority for Fair Housing Act complaint processing made within the Offices of the Assistant Secretary for FHEO and the General Deputy Assistant Secretary for FHEO under the Fair Housing Act and redelegates this authority to FHEO region and headquarters staff.

DATES: Effective Date: May 31, 2007.

FOR FURTHER INFORMATION CONTACT: Bryan Greene, Deputy Assistant Secretary for Enforcement and Programs, Office of Fair Housing and Equal Opportunity, Department of Housing and Urban Development, 451 Seventh Street, SW., Room 5204, Washington, DC 20410-0001, telephone (202) 619-8046 (this is not a toll-free number). Hearing- and speech-impaired individuals may access this number through TTY by calling the toll-free Federal Information Relay Service at (800) 877-8339.

SUPPLEMENTARY INFORMATION: In a March 30, 1989 notice (54 FR 13121), the Secretary of HUD delegated the authority to enforce the Fair Housing Act (42 U.S.C. 3601 et seq.) to the Assistant Secretary for FHEO and the General Counsel, among other Department officials. In this notice, the Assistant Secretary for FHEO revokes the August 4, 2003 (effective July 25, 2003, 68 FR 45846) and July 6, 2005 (effective June 23, 2005, 70 FR 38971) redelegations of authority for Fair Housing Act complaint processing made within the Offices of the Assistant Secretary for FHEO and the General Deputy Assistant Secretary for FHEO under the Fair Housing Act and redelegates this authority to FHEO region and headquarters staff. Accordingly, the Assistant Secretary for FHEO retains and redelegates this authority as provided in this notice.

Section A. Authority Retained and Redelegated

The Assistant Secretary for FHEO retains and redelegates the authority for Fair Housing Act complaint processing, as provided in 24 CFR part 103, to the General Deputy Assistant Secretary for FHEO.

The General Deputy Assistant Secretary for FHEO retains and further redelegates the authority under 24 CFR part 103, subparts A, B, D (with the exception of the filing of a Secretary-initiated complaint under 24 CFR 103.200(b) and 24 CFR 103.204(a)), E, and F, to the Deputy Assistant Secretary for Enforcement and Programs; Director of the Office of Enforcement; Director of the Office of Systemic Investigations and FHEO Region Directors.

The General Deputy Assistant Secretary for FHEO further retains and redelegates the authority, under 24 CFR part 103, subpart C, to the Deputy Assistant Secretary for Enforcement and Programs; Director of the Office of Enforcement and FHEO Region Directors.

The General Deputy Assistant Secretary for FHEO further retains and redelegates the authority under 24 CFR 103.510(a) to the Deputy Assistant Secretary for Enforcement and Programs and Director of the Office of Enforcement.

The General Deputy Assistant Secretary for FHEO further retains and redelegates the authority under 24 CFR 103.510(d) to the Deputy Assistant Secretary for Enforcement and Programs; Director of the Office of Enforcement; Director of the Office of Systemic Investigations and FHEO Region Directors.

The Assistant Secretary for FHEO retains and redelegates to the General Deputy Assistant Secretary for FHEO the authority to reconsider no cause determinations. The General Deputy Assistant Secretary for FHEO further retains and redelegates this authority to the Deputy Assistant Secretary for Enforcement and Programs and Director of the Office of Enforcement.

Section B. Authority To Further Redelegate

The General Deputy Assistant Secretary may further redelegate the authorities provided in Section A of this notice. The Deputy Assistant Secretary for Enforcement and Programs; Director of the Office of Enforcement; Director of the Office of Systemic Investigations and FHEO Region Directors may not redelegate the authorities provided in Section A of this notice.

Section C. Authority Revoked

All prior redelegations of authority for Fair Housing complaint processing made within the Offices of the Assistant Secretary for FHEO and the General Deputy Assistant Secretary are revoked.

Authority: Section 7(d) of the Department of Housing and Urban Development Act (42 U.S.C. 3535(d)).

Dated: May 31, 2007.
Kim Kendrick,
Assistant Secretary for Fair Housing and Equal Opportunity.
Dated: May 31, 2007.
Cheryl L. Ziegler,
General Deputy Assistant Secretary for Fair Housing and Equal Opportunity.

Editorial Note: This document was received at the Office of the Federal Register on December 12, 2007.

[FR Doc. E7-24336 Filed 12-14-07; 8:45 am]

BILLING CODE 4210-67-P